DEPARTMENT OF THE INTERIOR

Fish and Wildlife Service

Koyukuk, Nowitna and the Northern Unit (Kaiyuh Flats) of Innoko National Wildlife Refuges, AK

AGENCY: U.S. Fish and Wildlife Service, Interior.

ACTION: Notice of intent to revise the comprehensive conservation plan and prepare an environmental assessment; request for comments.

SUMMARY: We, the U.S. Fish and Wildlife Service (Service), intend to prepare a revised comprehensive conservation plan (CCP) and environmental assessment (EA) for Koyukuk, Nowitna and the Northern Unit (Kaiyuh Flats) of Innoko National Wildlife Refuges (Refuges). We furnish this notice in compliance with our CCP policy to advise other agencies, Tribes, and the public of our intentions, and to obtain suggestions and information on the scope of issues to consider in the planning process. We will use local announcements, special mailings, newspaper articles, the internet, and other media announcements to inform people of opportunities to provide input throughout the planning process. We will hold public meetings in communities near the refuges during preparation of the revised plan.

DATES: Please provide written comments on the scope of the CCP revision by December 15, 2007.

ADDRESSES: Address comments, questions, and requests for further information to: Robert Lambrecht, Planning Team Leader, Koyukuk Nowitna National Wildlife Refuge, P.O. Box 287, Galena, AK 99741-0287. Comments may be faxed to (907) 656-1708, or sent via electronic mail to Koyukuk/Nowitna_planning@fws.gov. Additional information about the Refuge is available on the internet at: http://alaska.fws.gov/nwr/planning/knpol.htm.

FOR FURTHER INFORMATION CONTACT: Robert Lambrecht, Planning Team Leader, phone (907) 656-1231.

SUPPLEMENTARY INFORMATION:

Introduction

With this notice, we initiate our process for developing a CCP for the Koyukuk and Nowitna and the Northern Unit (Kaiyuh Flats) of Innoko National Wildlife Refuges, Alaska. We furnish this notice in compliance with our policy to (1) advise other Federal and State agencies, Tribes, and the public of our intention to conduct detailed planning on this refuge and (2) obtain suggestions and information on the scope of issues to be considered in the environmental document and during the development of the CCP.

The CCP Process

The Alaska National Interest Lands Conservation Act (94 Stat. 2371) and the National Wildlife Refuge System Improvement Act of 1997 (16 U.S.C. 668dd-668ee), which amended the National Wildlife Refuge System Administration Act of 1966; require us to develop a CCP for each national wildlife refuge in Alaska. The purpose of developing a CCP is to provide refuge managers with a 15-year plan for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Improvement Act and the National Environmental Policy Act (NEPA) (42 U.S.C. 4321 et seq.).

Each unit of the National Wildlife Refuge System was established for specific purposes. We use these purposes as the bases to develop and prioritize management goals and objectives within the National Wildlife Refuge System mission, and to guide which public uses will occur on these Refuges. The planning process is a way for us and the public to evaluate management goals and objectives for the best possible conservation approach to this important wildlife habitat, while providing for wildlife-dependent recreation opportunities that are compatible with the Refuges' establishing purposes and the mission of the National Wildlife Refuge System.

We will conduct a comprehensive conservation planning process that will provide opportunity for Tribal, State, and local government agencies; organizations; and the public to participate in issue scoping and public comment. We request input in the form of issues, concerns, ideas, and suggestions for the future management of the Koyukuk and Nowitna and the Northern Unit (Kaiyuh Flats) of Innoko National Wildlife Refuges.

We will conduct the environmental review of this project through an environmental assessment in accordance with the requirements of the National Environmental Policy Act of 1969, as amended; NEPA regulations (40 CFR parts 1500-1508); other appropriate Federal laws and regulations; and our policies and procedures for compliance with those laws and regulations.

The Refuges

The Koyukuk Refuge (3,550,000 acres), Nowitna Refuge (1,560,000 acres), and Northern Unit (Kaiyuh Flats) of Innoko Refuge (350,800 acres) are managed from the headquarters office in Galena, Alaska. Following are the purposes for which the Koyukuk and Nowitna National Wildlife Refuges were established by ANILCA: (i) To conserve fish and wildlife populations and habitats in their natural diversity, including but not limited to [Koyukuk] waterfowl and other migratory birds, moose, caribou (including participation in coordinated ecological studies and management of the Western Arctic caribou herd), furbearers, and salmon; [Nowitna] trumpeter swans, white-fronted geese, canvasbacks, and other waterfowl and migratory birds; moose; caribou; martens, wolverines, and other furbearers; salmon; sheefish; and northern pike; [Innoko] waterfowl, peregrine falcons, other migratory birds, black bear, moose, furbearers, and other mammals; and salmon; (ii) to fulfill the international treaty obligations of the United States with respect to fish and wildlife and their habitats; (iii) to provide, in a manner consistent with the purposes set forth in subparagraphs (i) and (ii), the opportunity for continued subsistence uses by local residents; (iv) to ensure, to the maximum extent practicable and in a manner consistent with the purposes set forth in paragraph (i), water quality and necessary water quantity within the refuge.

The CCPs for these refuges were completed in 1987. They provide direction for managing the refuges by identifying the types and level of activities that can occur on the refuges. The refuges are divided into three management categories: Most of the refuges are in the Minimal management category; 400,000 acres of the Koyukuk Refuge are designated Wilderness; and 142,000 acres of the Nowitna Refuge are in the Wild and Scenic River category. As we revise the CCPs, the two current CCPs will be combined into one CCP.

Koyukuk Refuge lies in a basin surrounded by rolling, low mountains and is bisected by the Koyukuk River, the third largest river in Alaska. The refuge's rich wetlands combine with lowland forests to support a diversity of wildlife, including moose and large populations of migrating waterfowl. There are about 15,000 lakes and over 5,500 miles of rivers and streams within the boundaries of the refuge. Refuge lands support large numbers of nesting waterfowl and contain some of Alaska's highest quality moose habitat. The refuge is also home to caribou, wolves, lynx, pike, raptors, and black and grizzly bears. The six Native (Koyukon Athabascan) villages adjacent to, or within, the refuge boundaries have used the refuge for centuries. Hunting, fishing and trapping are still important subsistence activities today.

The northern unit (Kaiyuh Flats) of Innoko Refuge shares a common boundary with Koyukuk Refuge and is home to waterfowl, peregrine falcons, other migratory birds, black bear, moose, fur bearers and other mammals, and salmon. Pike, a long-lived fish that can reach large sizes, also winter in the Kaiyuh Flats.

Nowitna Refuge's topography varies from flat lowlands dotted with wetlands to rolling hills capped by alpine tundra. During summer, Nowitna's varied habitats support over 125 bird species but this number drops to only a few dozen during winter. The Palisades, a series of bluffs on the Yukon River near the northeast boundary of the refuge, is a rich source of fossils and other evidence of Pleistocene Era animals and plants. The Nowitna River bisects the refuge and forms a broad meandering flood plain. Two-hundred twenty-three miles of the Nowitna is designated Wild and Scenic River and passes through a 15 mile canyon with peaks up to 2,100 feet. In the spring, high water and ice dams can back the river up more than 100 miles, affecting water levels and permitting the migration of fish from many adjacent lakes and sloughs.

Scoping: Preliminary Issues, Concerns, and Opportunities

We have identified preliminary issues, concerns, and opportunities and may address them in the CCP. Preliminary issues include (1) concern about management of moose, salmon, predators, and waterfowl within the refuges; (2) competition for refuge resources between local and non-local users; (3) desire for improved pubic outreach and involvement in refuge management; (4) sensitivity to local cultural ways; (5) future trends in public use of the refuge and how public use will be managed; (6) effects of climate change on the refuge; (7) implementation of existing policies on cabins, timber harvest, and other resource development; and (8) effects of existing and proposed off-refuge development on refuge lands and resources. These and other issues will be explored during the scoping process and the refuge will determine which issues will be addressed in the revised CCP.

Public Meetings

We will involve the public through open houses, meetings, and comments. We will mail planning updates to our refuge mailing list to keep the public aware of the status of the revision and how we use public comments in each stage of the planning process. Scoping meetings are planned to be held in October, 2007 in the following refuge area communities: Hughes, Huslia, Kaltag, Koyukuk, Nulato, Ruby, and Tanana. A week-long open house will be held at refuge headquarters in Galena also in October. Details will be announced locally.

Public Availability of Comments

Before including your name, address, phone number, e-mail address, or other personal identifying information in your comment, you should be aware that your entire comment—including your personal identifying information—may be made publicly available at any time. While you can ask us in your comment to withhold your personal identifying information from public review, we cannot guarantee that we will be able to do so.

Dated: October 1, 2007.
Thomas O. Melius,
Regional Director, U.S. Fish & Wildlife Service, Anchorage, Alaska.

[FR Doc. E7-19794 Filed 10-5-07; 8:45 am]

BILLING CODE 4310-55-P